DEPARTMENT OF COMMERCE

International Trade Administration

A-533-824

Polyethylene Terephthalate Film, Sheet, and Strip from India: Final Results of Antidumping Duty Administrative Review

AGENCY: Import Administration, International Trade Administration, Department of Commerce.

SUMMARY: On August 6, 2008, the Department of Commerce (the Department) published in the Federal Register, the preliminary results of this administrative review of Polyethylene Terephthalate Film, Sheet, and Strip (PET Film). See Polyethylene Terephthalate Film, Sheet, and Strip from India: Preliminary Results of and Partial Recession the Antidumping Duty Administrative Review, 73 FR 45699 (August 6, 2008) (Preliminary Results). The review covers one respondent, Jindal Poly Films Limited (Jindal). The period of review (POR) is July 1, 2006, through June 30, 2007. We invited interested parties to submit comments on our Preliminary Results. Based on our analysis of the comment received, we have made a change to our calculations with respect to the treatment of duty drawback. For the final dumping margins see the “Final Results of Review” section below.

EFFECTIVE DATE: November 25, 2008.

FOR FURTHER INFORMATION CONTACT: Martha Douthit, AD/CVD Operations, Office 6, Import Administration, International Trade Administration, Department of Commerce, 14th Street and Constitution Avenue, NW, Washington, DC 20230; telephone: (202) 482-5050.

SUPPLEMENTARY INFORMATION:

Background

Since the publication of the Preliminary Results, the following event has occurred. On August 25, 2008, Jindal timely submitted a case brief commenting on the calculations with respect to duty drawback. Petitioners, Dupont Teijin Films, Mitsubishi Polyester Film Of America, Toray Plastics (America), Inc., and SKC America, Inc. did not file a case or rebuttal brief.

Scope of the Order

The products covered by the antidumping duty order are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00.90. HTSUS subheadings are provided for convenience and customs purposes. The written description of the scope of the antidumping duty order is dispositive.

On August 25, 2003, the Department determined, in a scope ruling, that tracing and drafting film is outside of the scope of the order. See Notice of Scope Ruling, 70 FR 24533 (May 10, 2005).

Analysis of Comment Received

The sole issue raised in the case brief by a party to this proceeding is addressed in the Memorandum from Stephen J. Claeys, Deputy Assistant Secretary for Import Administration, to David M. Spooner, Assistant Secretary for Import Administration, Issue and Decision Memorandum for the Final Results of Administrative Review of the Antidumping Duty Order on PET Film from India, (Decision Memorandum), dated concurrently with this notice, which is hereby adopted by this notice. The sole issue raised concerns the treatment of duty drawback. Parties can find a complete discussion of this issue in this public memorandum which is on file in the Central Records Unit, room 1117 of the Department of Commerce building. In addition, a complete version of the Decision Memorandum can be accessed directly on the Internet at: http://ia.ita.doc.gov/frn. The paper copy and the electronic version of the Decision Memorandum are identical in content.

Changes Since the Preliminary Results

Based on the comment received from Jindal, we have made a change to the margin calculations used in the Preliminary Results. The adjustment is discussed in detail in the Decision Memorandum.

Final Results of Review

We determine that the following weighted average antidumping margin exists for the period July 1, 2006, through June 30, 2007.

Manufacturer/Exporter | Weighted-Average Margin
Jindal Poly Films Limited (Jindal) | 0.00 percent (de minimis)

Assessment

The Department shall determine, and U.S. Customs and Border Protection (CBP) shall assess, antidumping duties on all appropriate entries pursuant to section 751(a)(1)(B) of the Tariff Act of 1930, as amended (the Act). Pursuant to 19 CFR 351.106(c)(2), we will instruct CBP to liquidate without regard to antidumping duties any entries for which the assessment rate is de minimis (i.e., less than 0.50 percent). The Department intends to issue assessment instructions directly to CBP 15 days after the date of publication of these final results of review.

The Department clarified its “automatic assessment” regulation on May 6, 2003 (68 FR 23954). See Antidumping and Countervailing Duty Proceedings: Assessment of Antidumping Duties, 68 FR 23954 (May 6, 2003). This clarification will apply to entries of subject merchandise during the POR produced by any of the companies for which we are rescinding this review, and for which each no-shipment respondent did not know its merchandise would be exported by another company to the United States. In such instances, we will instruct CBP to liquidate unreviewed entries at the all-others rate if there is no rate for the intermediate company(ies) involved in the transaction.

Cash Deposit Requirements

The following cash deposit requirements will be effective upon publication of the final results of this administrative review for all shipments of the subject merchandise entered, or withdrawn from warehouse, for consumption on or after the publication date, consistent with section 751(a)(2)(C) of the Act: (1) the cash deposit rate will be zero for Jindal; (2) if the exporter is not a firm covered in this review, but was covered in a previous review or the original less than fair value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be the “All Others” rate established in the original LTFV investigation, adjusted for the export subsidy rate found in the companion countervailing duty investigation, which results in a rate of 5.71 percent. See Certain Polyethylene Terephthalte Film, Sheet, and Strip from India: Final Results of Antidumping Duty Administrative Review, 70 FR 8072 (February 17, 2005). These cash deposit requirements, when imposed, shall remain in effect until further notice.

Notification to Importers

This notice also serves as the final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice also serves as the only reminder to parties subject to administrative protective order (APO) of their responsibility concerning the disposition of proprietary information disclosed under APO as explained in the APO itself. See 19 CFR 351.305(a)(3). Timely written notification of the return/destruction of APO materials or conversion to judicial protective order is hereby requested. Failure to comply with the regulations and terms of the APO is a sanctionable violation.

This notice is issued and published in accordance with sections 751(a)(1) and 777(i)(1) of the Act.

Dated: November 17, 2008.
David M. Spooner,
Assistant Secretary for Import Administration.

[FR Doc. E8-28018 Filed 11-24-08; 8:45 am]

BILLING CODE 3510-DS-S